DEPARTMENT OF THE INTERIOR

National Park Service

[NPS-WASO-NAGPRA-NPS0037834; PPWOCRADN0-PCU00RP14.R50000]

Notice of Inventory Completion: University of California, Riverside, Riverside, CA

AGENCY: National Park Service, Interior.

ACTION: Notice.

SUMMARY: In accordance with the Native American Graves Protection and Repatriation Act (NAGPRA), the University of California, Riverside has completed an inventory of human remains and associated funerary objects and has determined that there is a cultural affiliation between the human remains and associated funerary objects and Indian Tribes or Native Hawaiian organizations in this notice.

DATES: Repatriation of the human remains and associated funerary objects in this notice may occur on or after May 31, 2024.

ADDRESSES: Megan Murphy, University of California, Riverside, 900 University Avenue, Riverside, CA 92517-5900, telephone (951) 827-6349, email megan.murphy@ucr.edu.

SUPPLEMENTARY INFORMATION: This notice is published as part of the National Park Service's administrative responsibilities under NAGPRA. The determinations in this notice are the sole responsibility of the University of California, Riverside, and additional information on the determinations in this notice, including the results of consultation, can be found in the inventory or related records. The National Park Service is not responsible for the determinations in this notice.

Abstract of Information Available

Based on the information available, human remains representing, at least, one individual have been reasonably identified. The two associated funerary objects are charcoal samples. From December 1984 through January 1985 the University of California, Riverside Archaeological Research Unit (UCR-ARU) investigated archaeological site CA-RIV-1806 (Hi Card Ranch) as part of an environmental impact assessment related to a housing development near Wildomar. Daniel McCarthy, staff archaeologist for the UCR-ARU published a report on the excavation in 1986 entitled “Excavations at Hi Card Ranch (CA-RIV-1806), Santa Rosa Plateau, Near Wildomar, Riverside County, California”. A total of 26 units, including four test units were excavated. Items removed from the site included cremated human remains and charcoal, as well as faunal bone, a bead made from faunal bone, seeds, stone tools and flakes, ground stones, modified disc-shaped and donut-shaped stones, and projectile points. The human bone removed from the site was not identified as human until a morphological laboratory analysis following excavation. Five small human bone fragments were all uncovered in unit 6, which was located on the northwestern edge of the excavation in what archaeologists believed was a single cremation. The associated archaeological collection was temporarily housed in the University of California Riverside Archaeological Curation Unit under Accession #101. The cremated human bone fragments and charcoal listed in this inventory were sent to the UCR Radiocarbon Laboratory under the direction of Dr. Taylor to be dated and remained in the UCR collection after testing. The remainder of the collection was returned to the landowner, Mr. Keith Card, in October of 1989. UCR NAGPRA Program Staff contacted the family and colleagues of the late Keith Card, but were unable to locate the other artifacts removed from the site.

Cultural Affiliation

Based on the information available and the results of consultation, cultural affiliation is clearly identified by the information available about the human remains and associated funerary objects described in this notice.

Determinations

The University of California, Riverside has determined that:

• The human remains described in this notice represent the physical remains of one individual of Native American ancestry.

• The two objects described in this notice are reasonably believed to have been placed intentionally with or near individual human remains at the time of death or later as part of the death rite or ceremony.

• There is a reasonable connection between the human remains and associated funerary objects described in this notice and the Pechanga Band of Indians (previously listed as Pechanga Band of Luiseno Mission Indians of the Pechanga Reservation, California).

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after May 31, 2024. If competing requests for repatriation are received, the University of California, Riverside must determine the most appropriate requestor prior to repatriation. Requests for joint repatriation of the human remains and associated funerary objects are considered a single request and not competing requests. The University of California, Riverside is responsible for sending a copy of this notice to the Indian Tribes and Native Hawaiian organizations identified in this notice.

Authority: Native American Graves Protection and Repatriation Act, 25 U.S.C. 3003, and the implementing regulations, 43 CFR 10.10.

Dated: April 23, 2024.
Melanie O'Brien,
Manager, National NAGPRA Program.

[FR Doc. 2024-09409 Filed 4-30-24; 8:45 am]

BILLING CODE 4312-52-P